DEPARTMENT OF ENERGY

Federal Energy Regulatory Commission

Combined Notice of Filings #1

Take notice that the Commission received the following electric rate filings:

Docket Numbers: ER20-1338-000.

Applicants: King Plains Wind Project, LLC.

Description: Supplement to March 18, 2020 King Plains Wind Project, LLC tariff filing.

Filed Date: 4/24/20.

Accession Number: 20200424-5250.

Comments Due: 5 p.m. ET 5/15/20.

Docket Numbers: ER20-1665-000.

Applicants: SOO Green Renewable Rail, LLC.

Description: Application to Sell Transmission Rights at Negotiated Rates of SOO Green Renewable Rail, LLC.

Filed Date: 4/27/20.

Accession Number: 20200427-5298.

Comments Due: 5 p.m. ET 5/18/20.

Docket Numbers: ER20-1666-000.

Applicants: Midcontinent Independent System Operator, Inc.

Description: § 205(d) Rate Filing: 2020-04-28_SA 3482 ATC-Paris Solar Energy Center GIA (J878) to be effective 4/14/2020.

Filed Date: 4/28/20.

Accession Number: 20200428-5004.

Comments Due: 5 p.m. ET 5/19/20.

Docket Numbers: ER20-1667-000.

Applicants: Tampa Electric Company.

Description: Motion for Waiver of Rate Schedule Provisions, et al. of Tampa Electric Company.

Filed Date: 4/27/20.

Accession Number: 20200427-5323.

Comments Due: 5 p.m. ET 5/4/20.

Docket Numbers: ER20-1668-000.

Applicants: Dominion Energy South Carolina, Inc.

Description: § 205(d) Rate Filing: Attachment M Modifications in LGIP to be effective 6/28/2020.

Filed Date: 4/28/20.

Accession Number: 20200428-5084.

Comments Due: 5 p.m. ET 5/19/20.

Docket Numbers: ER20-1669-000.

Applicants: Midcontinent Independent System Operator, Inc., GridLiance Heartland LLC.

Description: Compliance filing: 2020-04-28_GridLiance Attachment O Income Tax Allowance Filing to be effective 7/1/2020.

Filed Date: 4/28/20.

Accession Number: 20200428-5086.

Comments Due: 5 p.m. ET 5/19/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 28, 2020.
Nathaniel J. Davis, Sr.,
Deputy Secretary.

[FR Doc. 2020-09438 Filed 5-1-20; 8:45 am]

BILLING CODE 6717-01-P